DEPARTMENT OF ENERGY

Federal Energy Regulatory Commission

Combined Notice of Filings

Take notice that the Commission received the following exempt wholesale generator filings:

Docket Numbers: EG12-60-000.

Applicants: Minonk Wind, LLC.

Description: Notice of Self-Certification of Exempt Wholesale Generator Status of Minonk Wind, LLC.

Filed Date: 4/19/12.

Accession Number: 20120419-5196.

Comments Due: 5 p.m. ET 5/10/12.

Docket Numbers: EG12-61-000.

Applicants: Senate Wind, LLC.

Description: Notice of Self-Certification of Exempt Wholesale Generator Status of Senate Wind, LLC.

Filed Date: 4/19/12.

Accession Number: 20120419-5200.

Comments Due: 5 p.m. ET 5/10/12.

Take notice that the Commission received the following electric rate filings:

Docket Numbers: ER10-2156-002.

Applicants: Consumers Energy Company.

Description: Consumers Energy Company Supplement to Prior Refund Report Filings.

Filed Date: 4/19/12.

Accession Number: 20120419-5255.

Comments Due: 5 p.m. ET 5/10/12.

Docket Numbers: ER12-1574-000.

Applicants: Kentucky Utilities Company.

Description: Benham Notice of Termination to be effective 8/16/2012.

Filed Date: 4/19/12.

Accession Number: 20120419-5158.

Comments Due: 5 p.m. ET 6/4/12.

Docket Numbers: ER12-1575-000.

Applicants: State Line Energy, L.L.C.

Description: Cancellation of MBR Tariff for State Line Energy to be effective 4/19/2012.

Filed Date: 4/19/12.

Accession Number: 20120419-5187.

Comments Due: 5 p.m. ET 5/10/12.

Docket Numbers: ER12-1576-000.

Applicants: Florida Power & Light Company.

Description: FPL Revisions to Schedules 4 and 9 of the OATT to be effective 7/1/2012.

Filed Date: 4/19/12.

Accession Number: 20120419-5218.

Comments Due: 5 p.m. ET 5/10/12.

Docket Numbers: ER12-1577-000.

Applicants: Midwest Independent Transmission System.

Description: 09-19-12 MEP Filing to be effective 7/1/2012.

Filed Date: 4/19/12.

Accession Number: 20120419-5229.

Comments Due: 5 p.m. ET 5/10/12.

Docket Numbers: ER12-1578-000.

Applicants: Northern Indiana Public Service Company.

Description: CIAC under Wabash Valley Power Association Interconnection Agreement to be effective 4/20/2012.

Filed Date: 4/19/12.

Accession Number: 20120419-5233.

Comments Due: 5 p.m. ET 5/10/12.

Docket Numbers: ER12-1579-000.

Applicants: State Line Energy, L.L.C.

Description: Notice of Cancellation of Reactive Supply Schedule of State Line Energy, L.L.C.

Filed Date: 4/19/12.

Accession Number: 20120419-5254.

Comments Due: 5 p.m. ET 5/10/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2012.
Nathaniel J. Davis, Sr.,
Deputy Secretary.

[FR Doc. 2012-11171 Filed 5-8-12; 8:45 am]

BILLING CODE 6717-01-P